DEPARTMENT OF HEALTH AND HUMAN SERVICES

Public Health Service Operating Divisions; Delegation of Authority

Notice is hereby given that I have delegated to the Public Health Service (PHS) Operating Division (OPDIV) Heads the service fellowships related authorities vested in the Secretary of Health and Human Services under Sections 207 and 208 of the PHS Act, 42 U.S.C. 209 and 210, and under Title 42 CFR, Subpart B, Part 61—Service Fellowships.

This delegation supersedes the delegation of authority memorandum titled, “Delegation of Authority—Service Fellowships,” to the PHS Agency Heads from the Deputy Assistant Secretary for Health Management Operations, Office of the Assistant Secretary for Health, dated January 8, 1993.

This delegation becomes effective upon date of signature. Also, I hereby ratify and affirm the actions taken by you or your subordinates, which involved the exercise of authorities delegated herein prior to the effective date of this delegation.

Dated: June 2, 2000.
Donna E. Shalala,
Secretary.

[FR Doc. 00-14751 Filed 6-9-00; 8:45 am]

BILLING CODE 4160-17-M